DEPARTMENT OF COMMERCE

Foreign-Trade Zones Board

[S-153-2024]

Approval of Subzone Status; Senior Operations LLC; New Braunfels, Texas

On August 22, 2024, the Executive Secretary of the Foreign-Trade Zones (FTZ) Board docketed an application submitted by the City of San Antonio, grantee of FTZ 80, requesting subzone status subject to the existing activation limit of FTZ 80, on behalf of Senior Operations LLC, in New Braunfels, Texas.

The application was processed in accordance with the FTZ Act and Regulations, including notice in the Federal Register inviting public comment (89 FR 68583-68584, August 27, 2024). The FTZ staff examiner reviewed the application and determined that it meets the criteria for approval. Pursuant to the authority delegated to the FTZ Board Executive Secretary (15 CFR 400.36(f)), the application to establish Subzone 80H was approved on November 4, 2024, subject to the FTZ Act and the Board's regulations, including section 400.13, and further subject to FTZ 80's 2,000-acre activation limit.

Dated: November 4, 2024.
Elizabeth Whiteman,
Executive Secretary.

[FR Doc. 2024-25900 Filed 11-6-24; 8:45 am]

BILLING CODE 3510-DS-P